DEPARTMENT OF COMMERCE

Census Bureau

2020 Census Tribal Consultation; Virtual Public Meeting

AGENCY: Census Bureau, Department of Commerce.

ACTION: Notice of virtual public meeting.

SUMMARY: The Census Bureau will conduct a tribal consultation on the second and final 2010 Demonstration Data Product for the Demographic and Housing Characteristics File (DHC) on September 19, 2022, via national webinar. Feedback on this demonstration data product will help to determine the final parameter and settings for the 2020 DHC. The tribal consultation meeting reflects the Census Bureau's continuous commitment to strengthen nation-to-nation relationships with federally recognized tribes. The Census Bureau's procedures for outreach, notice, and consultation ensure involvement of tribes to the extent practicable and permitted by law before making decisions or implementing policies, rules, or programs that affect federally recognized tribal governments. These meetings are open to citizens of federally recognized tribes by invitation. The Census Bureau conducted a tribal listening session on Thursday, August 18, 2022, to prepare tribes for the September virtual tribal consultation and sent materials to the tribes to help with their analysis of the demonstration data product. The Census Bureau provided questions in preparation for the virtual tribal consultation focused on the DHC. In that regard, the Census Bureau is asking tribal governments to identify potentially problematic results from the application of disclosure avoidance to the 2010 demonstration data. Helpful feedback would include identification of tables and geographies that are acceptable and unacceptable. The purpose of the virtual tribal consultation is to hear tribes' recommendations.

DATES: The Census Bureau will conduct the tribal consultation webinar on Monday, September 19, 2022, from 3:00 p.m. to 4:30 p.m. EDT. Any questions or topics to be considered in the tribal consultation meetings must be received in writing via email by Monday, September 12, 2022.

Meeting Information: The Census Bureau tribal consultation webinar meeting will be held via the Microsoft Teams platform at the following link: https://teams.microsoft.com/registration/8RanOlnlzkGlMEfRgxPGAw,TIJcpXM2nESpQgaKulF03g,rT1DtLbTwkezvnebFVFaoQ,iUFZ8p48HkiUQKd6kUDang,Eg0luHKaP0K4SQLIrkwJpg,STi-JWx-hUaO3gRjCnuT8Q?mode=read&tenantId=3aa716f1-e559-41ce-a530-47d18313c603&webinarRing=gcc.

Submit your comments by email. Send comments to: 2020DAS@census.gov.

FOR FURTHER INFORMATION CONTACT: Dee Alexander Tribal Affairs Coordinator, Office of Congressional and Intergovernmental Affairs, Intergovernmental Affairs Office, U.S. Census Bureau, Washington, DC 20233; telephone (301) 763-6100; or email at ocia.tao@census.gov.

SUPPLEMENTARY INFORMATION: The Census Bureau is planning a national webinar on September 19, 2022, with federally recognized tribes, so tribes can provide feedback on the 2010 Demonstration Data Product—Demographic and Housing Characteristics File (DHC). This demonstration data product represents the near final version of the 2020 Census Disclosure Avoidance System (DAS) applied to 2010 Census Data. It allows comparisons of 2010 Census data with the new disclosure protections against the published 2010 Census products that were protected using the prior swapping mechanism. The DHC provides demographic and housing characteristics, including age, sex, race, Hispanic or Latino origin, relationship to householder, household type, couple type, housing tenure, and vacancy. Some subjects are repeated by major OMB race/ethnicity groups.

In accordance with Executive Order 13175 Consultation and Coordination with Indian Tribal Governments issued November 6, 2000, the Census Bureau has adhered to its tribal consultation policy by seeking the input of tribal governments in the planning and implementation of the 2020 Census with the goal of ensuring the most accurate counts and data for the American Indian and Alaska Native population. In that regard, the Census Bureau is seeking comments on the 2010 Demonstration Data Product—DHC. Note, that while the focus of this tribal consultation is the DHC, additional 2020 Census data products are planned including the Detailed DHC-A, Detailed DHC-B, and S-DHC. Detailed DHC-A and Detailed DHC-B include detailed race, ethnicity, and American Indian and Alaska Native tribe and village populations.

The Census Bureau will conduct two tribal consultation meetings on the Detailed DHC-A and Detailed DHC-B this October. Notification and materials will be sent to all federally recognized tribes in September 2022.

Demographic and Housing Characteristics File (DHC)

The DHC will include some of the demographic and housing tables previously included in the 2010 Census Summary File 1 (SF1).

• Subjects: Age, sex, race, Hispanic or Latino origin, relationship to householder, group quarters population, household and family type, housing occupancy, and housing tenure. Some subjects are repeated for major OMB race/ethnicity groups.

• Access: data.census.gov.

• Lowest level of geography: Geography varies by table with many available down to the block level.

• Release Date: Tentatively May 2023.

• Information about the content of these data products was released on September 16, 2021. Information was presented during the August 18, 2022, tribal listening session and were notified of the 30-day review period. Submit your comments by email. Send comments to: 2020DAS@census.gov.

Robert L. Santos, Director, Census Bureau, approved the publication of this Notice in the Federal Register.

Dated: August 12, 2022.
Mary Reuling Lenaiyasa,
Program Manager, Paperwork Reduction Act, Policy Coordination Office, Census Bureau.

[FR Doc. 2022-17764 Filed 8-17-22; 8:45 am]

BILLING CODE 3510-07-P